DEPARTMENT OF ENERGY

[GDO Docket No. EA-504]

Application for Authorization To Export Electric Energy; AlbertaEx L.P., Inc

AGENCY: Grid Deployment Office, Department of Energy.

ACTION: Notice of application.

SUMMARY: AlbertaEx, L.P. (AlbertaEx or Applicant) has applied for authorization to transmit electric energy from the United States to Canada pursuant to the Federal Power Act.

DATES: Comments, protests, or motions to intervene must be submitted on or before September 25, 2024.

ADDRESSES: Comments, protests, motions to intervene, or requests for more information should be addressed by electronic mail to Electricity.Exports@hq.doe.gov.

FOR FURTHER INFORMATION CONTACT: Janessa Zucchetto, 240-474-8226 Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export. (16 U.S.C. 824a(e)). On April 10, 2023, the authority to issue such orders was delegated to the DOE's Grid Deployment Office (GDO) by Delegation Order No. S1-DEL-S3-2023 and Redelegation Order No. S3-DEL-GD1-2023.

On October 13, 2023, AlbertaEx filed an application with DOE (Application or App.) for authorization to transmit electric energy to Canada for a ten-year term. App. at 1. The Applicant filed supplemental information on July 22, 2024 to include information regarding the issuance of market-based rate authority from the Federal Energy Regulatory Commission. Id. at 3.

According to the Application, AlbertaEx is a power marketer and a wholly owned affiliate of BHE Canada Holdings Corporation, which is wholly owned by Berkshire Hathaway Energy Corporation. Id. at 2. The Applicant states that it is “a limited partnership organized under the laws of Alberta, Canada, with its principal place of business in Calgary, Alberta, Canada, and is currently authorized to operate in Montana.” Id.

Applicant states that it “does not have a power supply system on which its exports of power could have reliability, fuel use or system stability impact, nor does it have an obligation to serve any native load within a franchised service area.” Id at 6. Additionally, the Applicant represents that it “does not own or control electric generation facilities or transmission facilities.” Id. AlbertaEx further states that it “will purchase the power it plans to export voluntarily from electric utilities, wholesale generators, power marketers and other parties and thus such power will be surplus to the needs of the selling parties.” Id. AlbertaEx asserts that its exports will not impair or impede the sufficiency of the electric supply in the United States or the regional coordination of electric utility planning or operation. Id.

The existing international transmission facilities to be utilized by the Applicant have been previously authorized by Presidential permits issued pursuant to Executive Order 10485, as amended, and are appropriate for open access transmission by third parties. See id. at Attachment 2.

Procedural Matters: Any person desiring to be heard in this proceeding should file a comment or protest to the Application at Electricity.Exports@hq.doe.gov. Protests should be filed in accordance with Rule 211 of Federal Energy Regulatory Commission's (FERC's) Rules of Practice and Procedure (18 CFR 385.211). Any person desiring to become a party to this proceeding should file a motion to intervene at Electricity.Exports@hq.doe.gov in accordance with FERC Rule 214 (18 CFR 385.214).

Comments and other filings concerning AlbertaEx's Application should be clearly marked with GDO Docket No. EA-504. Additional copies are to be provided directly to mailto:uspower@mft-energy.com Amie V. Colby, Troutman Pepper Hamilton Sanders LLP, 401 9th Street NW, Suite 1000, Washington, DC 20004, amie.colby@troutman.com, and AlbertaEx, 255 5th Avenue SW, Suite 2675, Calgary, AB T2P 3G6, benjamin.lucky@bhe-canada.ca.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications or by emailing Electricity.Exports@hq.doe.gov.

Signing Authority: This document of the Department of Energy was signed on August 15, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 21, 2024.
Treena V. Garrett,
Federal Register Liaison Officer, U.S. Department of Energy.

[FR Doc. 2024-19073 Filed 8-23-24; 8:45 am]

BILLING CODE 6450-01-P